ENVIRONMENTAL PROTECTION AGENCY

40 CFR Part 52

[EPA-R04-OAR-2017-0387; FRL-9969-41-Region 4]

Air Plan Approval: South Carolina; Miscellaneous Revisions to Multiple Rules

AGENCY: Environmental Protection Agency (EPA).

ACTION: Withdrawal of direct final rule.

SUMMARY: Due to the receipt of an adverse comment, the Environmental Protection Agency (EPA) is withdrawing portions of the August 21, 2017, direct final rule that approves changes to South Carolina's state implementation plan (SIP) related to definitions and open burning. EPA will address the comment in a separate final action based upon the proposed rulemaking action, also published on August 21, 2017. EPA will not institute a second comment period on this action.

DATES: The amendments to 40 CFR 52.2120(c) at Regulation 62.1 and Regulation No. 62.2 (amendatory instructions 2.A and B.) published at 82 FR 39537, on August 21, 2017, are withdrawn, effective October 13, 2017.

FOR FURTHER INFORMATION CONTACT: D. Brad Akers, Air Regulatory Management Section, Air Planning and Implementation Branch, Air, Pesticides and Toxics Management Division, U.S. Environmental Protection Agency, Region 4, 61 Forsyth Street SW., Atlanta, Georgia 30303-8960. Mr. Akers can be reached via telephone at (404) 562-9089 or via electronic mail at akers.brad@epa.gov.

SUPPLEMENTARY INFORMATION: On August 21, 2017 (82 FR 39537), EPA published a direct final rule approving portions of several SIP revisions submitted by the State of South Carolina, through the South Carolina Department of Health and Environmental Control, on July 18, 2011, June 17, 2013, April 10, 2014, August 8, 2014, January 20, 2016, and July 27, 2016. EPA took a direct final action to approve portions of the July 18, 2011, June 17, 2013, April 10, 2014, August 8, 2014, January 20, 2016, and July 27, 2016, submissions that made changes to Regulation 61-62.1, Section I—“Definitions,” and Regulation 61-62.2—“Prohibition of Open Burning,” among other changes.

In the direct final rule, EPA explained that the Agency was publishing the rule without prior proposal because the Agency viewed the submittal as a non-controversial SIP amendment and anticipated no adverse comments. Further, EPA explained that the Agency was publishing a separate document in the proposed rules section of the Federal Register to serve as the proposal to approve the SIP revision should an adverse comment be filed. EPA also noted that the rule would be effective generally 30 days after the close of the public comment period, without further notice unless the Agency received adverse comment by the close of the public comment period. EPA explained that if the Agency received such comments, then EPA would publish a document withdrawing the final rule and informing the public that the rule would not take effect. EPA specified, however, that if a comment were received on an amendment, paragraph, or section of this rule and if that provision may be severed from the remainder of the rule, EPA may adopt as final those provisions of the rule that are not the subject of an adverse comment. It was also explained that all public comments received would then be addressed in a subsequent final rule based on the proposed rule, and that EPA would not institute a second comment period on this action.

EPA received one adverse comment from a single Commenter on the portions of the direct final rule that made changes to Regulation 61-62.1, Section I and Regulation 61-62.2 only. As a result of the comment received, EPA is withdrawing only the portions of the direct final rule approving changes to the South Carolina SIP at Regulation 61-62.1, Section I, as submitted in the July 18, 2011, June 17, 2013, April 10, 2014, and July 27, 2016, SIP revision, and Regulation 61-62.2, as submitted in the April 10, 2014, SIP revision. EPA will address the comment in a separate final action based on the proposed action also published on August 21, 2017 (82 FR 39551). EPA will not open a second comment period for this action.

List of Subjects in 40 CFR Part 52

Environmental protection, Air pollution control, Carbon monoxide, Incorporation by reference, Lead, Nitrogen dioxide, Ozone, Particulate matter, Reporting and recordkeeping requirements, Sulfur oxides, Volatile organic compounds.

Dated: September 29, 2017.
Onis “Trey” Glenn, III,
Regional Administrator, Region 4.

Accordingly, the amendments to 40 CFR 52.2120(c) at Regulation 62.1 and Regulation No. 62.2 (amendatory instructions 2.A and B.) published on August 21, 2017 (82 FR 39541), which were to become effective October 20, 2017, are withdrawn.

[FR Doc. 2017-22120 Filed 10-12-17; 8:45 am]

BILLING CODE 6560-50-P